DEPARTMENT OF COMMERCE

International Trade Administration

[C-533-825]

Polyethylene Terephthalate (PET) Film from India: Extension of Time Limit for Final Results of Countervailing Duty Administrative Review

AGENCY: Import Administration, International Trade Administration, U.S. Department of Commerce.

EFFECTIVE DATE: November 16, 2007.

FOR FURTHER INFORMATION CONTACT: Elfi Blum or Toni Page, AD/CVD Operations, Office 6, Import Administration, International Trade Administration, Department of Commerce, Room 7866, 14th Street and Constitution Avenue, NW, Washington DC 20230; telephone: (202) 482-0197 or (202) 482-1398, respectively.

Background

On August 6, 2007, the Department published the preliminary results of the administrative review of the countervailing duty order on polyethylene terephthalate (PET) film from India for the period January 1, 2005 through December 31, 2005. See Polyethylene Terephthalate Film, Sheet, and Strip from India: Notice of Preliminary Results and Rescission, in Part, of Countervailing Duty Administrative Review, 72 FR 43607 (August 6, 2007). The current deadline for the final results of review is December 4, 2007. This review covers two producers/exporters of the subject merchandise to the United States, MTZ Polyfilms, Ltd. (MTZ) and Garware Polyester Ltd. (Garware), as well as the government of India (GOI).

Extension of Time Limit for Final Results

Section 751(a)(3)(A) of the Tariff Act of 1930, as amended (the Act) requires the Department to issue the final results in an administrative review within 120 days of the publication date of the preliminary results. However, if it is not practicable to complete the review within this time period, section 751(a)(3)(A) of the Act allows the Department to extend the time limit for the final results to a maximum of 180 days. The Department has determined that completion of the final results of this review within the original time period is not practicable due to the additional analysis that must be performed on the information collected at the verification conducted after the issuance of the preliminary results. Thus, in accordance with section 751(a)(3)(A) of the Act, the Department is extending the time period for issuing the final results of review by an additional 60 days. As the 180th day falls on a Saturday, the final results will now be due no later than February 4, 2008.

This notice is published pursuant to sections 751(a)(3)(A) and 777(i)(1) of the Act.

Dated: November 9, 2007.
Stephen J. Claeys,
Deputy Assistant Secretary for Import Administration.

[FR Doc. E7-22465 Filed 11-15-07; 8:45 am]

BILLING CODE 3510-DS-S